DEPARTMENT OF ENERGY

Federal Energy Regulatory Commission

[Docket No. RP03-412-003]

Central New York Oil and Gas Company, LLC; Notice of Compliance Filing

September 10, 2003.

Take notice that on September 8, 2003, Central New York Oil and Gas Company, LLC (CNYOG) tendered for filing as part of its FERC Gas Tariff, Original Volume No. 1, First Revised Sheet No. 21B and Sixth Revised Sheet No. 103, to be effective July 1, 2003.

CNYOG states that the purpose of its filing is to comply with the Commission's August 29, 2003 Letter Order in this proceeding which accepted CNYOG's revised tariff sheets as satisfactorily complying with an earlier letter order in this proceeding. CNYOG further states that the August 29 Letter Order also directed CNYOG to file revised tariff sheets to delete incorporation by reference of Wholesale Gas Quadrant Standard 5.3.55 and include that standard in the text of CNYOG's tariff.

CNYOG notes that it has served copies of this filing upon the company's jurisdictional customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 22, 2003.

Magalie R. Salas,
Secretary.

[FR Doc. 03-23660 Filed 9-16-03; 8:45 am]

BILLING CODE 6717-01-P